FEDERAL COMMUNICATIONS COMMISSION

[AU Docket No. 14-252; GN Docket No. 12-268; WT Docket No. 12-269; DA 15-1488; DA 16-124; DA 16-241; DA 16-306 ; DA 16-224]

Wireless Telecommunications Bureau Releases File Formats and Corrects Technical Appendices Related to the Broadcast Incentive Auction

AGENCY: Federal Communications Commission.

ACTION: Notices; correction.

SUMMARY: In these documents, the Commission announces the release of specifications for data file formats and sample data files for the broadcast incentive auction's reverse auction (Auction 1001) and forward auction (Auction 1002). The Commission also announces the availability of updated file formats, a bid upload feature, and additional information related to impairment data downloads for Auction 1002. Finally, the Commission makes technical corrections to Appendix C and Appendix G of the Auction 1000 Application Procedures Public Notice (Auction 1000 Application Procedures Public Notice).

FOR FURTHER INFORMATION CONTACT: Wireless Telecommunications Bureau, Auctions and Spectrum Access Division: For file format and impairment data download questions, contact Melissa Dunford at (202) 418-0617, Sasha Javid at (202) 418-2392, or Craig Bomberger at (202) 418-2953. For questions regarding corrections to Appendix C and Appendix G of the Auction 1000 Application Procedures Public Notice, contact Melissa Dunford at (202) 418-0617 or Martha Stancill at (202) 418-7015.

SUPPLEMENTARY INFORMATION: This is a summary of the following documents:

• File Formats for Reverse Auction Public Notice, AU Docket No. 14-252, GN Docket No. 12-268, WT Docket No. 12-269, DA 16-241, released March 3, 2016;

• File Formats for Forward Auction Clock Phase Public Notice, AU Docket No. 14-252, GN Docket No. 12-268, WT Docket No. 12-269, DA 15-1488, released December 23, 2015;

• File Formats for Forward Auction Assignment Phase Public Notice, AU Docket No. 14-252, GN Docket No. 12-268, WT Docket No. 12-269, DA 16-124, released February 4, 2016;

• Updated File Formats for Forward Auction Clock Phase and Additional Impairment Data Downloads Public Notice, AU Docket No. 14-252, GN Docket No. 12-268, WT Docket No. 12-269, DA 16-306, released March 24, 2016; and

• Erratum, AU Docket No. 14-252, GN Docket No. 12-268, WT Docket No. 12-269, DA 16-224, released on March 4, 2016, to correct Appendix C and Appendix G of the Auction 1000 Application Procedures Public Notice, AU Docket No. 14-252, GN Docket No. 12-268, WT Docket No. 12-269, DA 15-1183, released October 15, 2015.

The complete texts of the Public Notices and Erratum are available for public inspection and copying from 8:00 a.m. to 4:30 p.m. ET Monday through Thursday or from 8:00 a.m. to 11:30 a.m. ET on Fridays in the FCC Reference Information Center, 445 12th Street SW., Room CY-A257, Washington, DC 20554. The complete texts are also available on the Commission's Web site at http://wireless.fcc.gov, the Auction 1000 Web site at http://www.fcc.gov/auctions/1000, or by using the search function on the ECFS Web page at http://www.fcc.gov/cgb/ecfs/. Alternative formats are available to persons with disabilities by sending an email to FCC504@fcc.gov or by calling the Consumer & Governmental Affairs Bureau at (202) 418-0530 (voice), (202) 418-0432 (TTY).

The File Formats for Reverse Auction Public Notice announces the release of specifications for the data file formats in which information related to the results of bidding in Auction 1001 will be made available to qualified bidders via the Auction System. The Public Notice also announces the release of sample data files pertaining to a hypothetical reverse auction bidder's stations, bids, and the results of its bidding. The specifications and sample data files, which are for illustrative purposes only, are available on the Auction 1001 Web site (www.fcc.gov/auctions/1001) in the Data section.

The File Formats for Forward Auction Clock Phase Public Notice provides specifications for the data file formats in which information related to the results of bidding in the clock phase of Auction 1002 will be made available to qualified bidders via the Auction System. Sample data files, which are for illustrative purposes only, are available on the Auction 1002 Web site (www.fcc.gov/auctions/1002) in the Data section.

The File Formats for Forward Auction Assignment Phase Public Notice announces the release of specifications for the data file formats in which information related to the results of bidding in the assignment phase of Auction 1002 will be made available to qualified bidders via the Auction System. Both the specifications and sample data files, which are for illustrative purposes only, are available on the Auction 1002 Web site (www.fcc.gov/auctions/1002) in the Data section.

The Updated File Formats for Forward Auction Clock Phase and Additional Impairment Data Downloads Public Notice announces the availability of updated data file formats and sample data files for the clock phase of Auction 1002. For those data files that are populated on a round-to-round basis, there will be a separate download file for each round of the auction rather than a file containing cumulative data for all rounds. The Public Notice also announces that a bid upload feature will be available to forward auction bidders in all rounds of the auction rather than just the initial round of the auction. Finally, the Public Notice announces the availability of additional information related to the impairment data downloads for the forward auction. The updated specifications, sample data files, and reference files are available on the Auction 1002 Web site (www.fcc.gov/auctions/1002) in the Data section.

The Erratum corrects Section 2.7 of Appendix C to the Auction 1000 Application Procedures Public Notice regarding the constraints used in the quaternary clearing target optimization and Sections 4 and 9 of Appendix G to the Auction 1000 Application Procedures Public Notice regarding when a bidder may submit switch bids and how next round bidder eligibility is calculated after an extended round. Updated versions of Appendix C and Appendix G are available in the Documents section of the Auction 1001 Web site (www.fcc.gov/auctions/1001) and in the Documents section of the Auction 1002 Web site (www.fcc.gov/auctions/1002).

Federal Communications Commission.
William Huber,
Associate Chief, Auctions and Spectrum Access Division, WTB.

[FR Doc. 2016-09026 Filed 4-18-16; 8:45 am]

BILLING CODE 6712-01-P